DEPARTMENT OF TRANSPORTATION

Federal Aviation Administration

14 CFR Part 39

[Docket No. FAA-2021-1007; Project Identifier MCAI-2021-00324-R; Amendment 39-21917; AD 2022-02-20]

RIN 2120-AA64

Airworthiness Directives; Airbus Helicopters Deutschland GmbH (AHD) Helicopters

AGENCY: Federal Aviation Administration (FAA), DOT.

ACTION: Final rule.

SUMMARY: The FAA is adopting a new airworthiness directive (AD) for all Airbus Helicopters Deutschland GmbH (AHD) Model MBB-BK 117 C-2 and MBB-BK 117 D-2 helicopters. This AD was prompted by report that a collective bellcrank-K was found incorrectly installed on a helicopter. This AD requires inspecting the collective bellcrank-K to determine if it is correctly installed and has a correct position marking and, depending on the findings, applicable corrective actions, as specified in a European Union Aviation Safety Agency (EASA) AD, which is incorporated by reference. This AD also allows installation of an affected collective bellcrank-K, provided certain instructions are followed. The FAA is issuing this AD to address the unsafe condition on these products.

DATES: This AD is effective March 17, 2022.

The Director of the Federal Register approved the incorporation by reference of a certain publication listed in this AD as of March 17, 2022.

ADDRESSES: For EASA material incorporated by reference (IBR) in this final rule, contact EASA, Konrad-Adenauer-Ufer 3, 50668 Cologne, Germany; telephone +49 221 8999 000; email ADs@easa.europa.eu; internet www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket at https://www.regulations.gov by searching for and locating Docket No. FAA-2021-1007.

Examining the AD Docket

You may examine the AD docket at https://www.regulations.gov by searching for and locating Docket No. FAA-2021-1007; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

FOR FURTHER INFORMATION CONTACT: Hal Jensen, Aerospace Engineer, Operational Safety Branch, FAA, 950 L'Enfant Plaza SW, Washington, DC 20024; telephone (202) 267-9167; email hal.jensen@faa.gov.

SUPPLEMENTARY INFORMATION:

Background

EASA, which is the Technical Agent for the Member States of the European Union, has issued EASA AD 2021-0074, dated March 15, 2021 (EASA AD 2021-0074), to correct an unsafe condition for all Airbus Helicopters Deutschland GmbH (AHD) (formerly Eurocopter Deutschland GmbH; and Airbus Helicopters Inc., formerly American Eurocopter LLC) Model MBB-BK117 C-2 and MBB-BK117 D-2 helicopters.

The FAA issued a notice of proposed rulemaking (NPRM) to amend 14 CFR part 39 by adding an AD that would apply to all Airbus Helicopters Deutschland GmbH Model MBB-BK 117 C-2 and MBB-BK 117 D-2 helicopters. The NPRM published in the Federal Register on November 26, 2021 (86 FR 67364). The NPRM was prompted by a report that a collective bellcrank-K (affected part) was found incorrectly installed on a helicopter. Subsequent investigations revealed that the affected part was an in-service replacement, and that the position marking on that part was incorrect. The NPRM proposed to require inspecting the collective bellcrank-K to determine if it is correctly installed and has a correct position marking and, depending on the findings, applicable corrective actions, as specified in EASA AD 2021-0074. The NPRM also proposed to allow installation of an affected collective bellcrank-K, provided certain instructions are followed.

The FAA is issuing this AD to address incorrect installation of a collective bellcrank-K, which could lead to unwanted collective input, resulting in reduced control of the helicopter. See EASA AD 2021-0074 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. Except for minor editorial changes, this AD is adopted as proposed in the NPRM.

Related Service Information Under 1 CFR Part 51

EASA AD 2021-0074 requires a one-time inspection of an affected part for correct installation by measuring the distance between the front edge of the bearing block and the front edge of the affected part, and for correct application of position markings, and, depending on the findings, accomplishment of applicable corrective actions. If an affected part is incorrectly installed, the corrective actions include inspecting for signs of chafing on the bearing block, the control lever, the forked lever, the sliding sleeve, and the bearing ring, replacing any parts that have signs of chafing, and installing a serviceable bellcrank-K with an applied position marking. If an affected part is correctly installed but the position marking is not correct, the corrective actions include re-working the affected part or replacing the affected part with a serviceable part that has an applied position marking. EASA AD 2021-0074 also allows installation of an affected part, provided certain instructions are followed.

This material is reasonably available because the interested parties have access to it through their normal course of business or by the means identified in the ADDRESSES section.

Costs of Compliance

The FAA estimates that this AD affects 140 helicopters of U.S. Registry. The FAA estimates the following costs to comply with this AD.

Estimated Costs
Action | Labor cost | Parts cost | Cost per product | Cost on U.S. operators
Inspection for correct installation and position marking | 0.50 work-hour × $85 per hour = $42.50 | $0 | $42.50 | $5,950

The FAA estimates the following costs to do any necessary replacements or rework that would be required based on the results of the inspection. The agency has no way of determining the number of helicopters that might need this replacement or rework:

On-Condition Costs
Action | Labor cost | Parts cost | Cost per product
Replace collective bellcrank-K | 8 work-hours × $85 per hour = $680 | $4,018 | $4,698
Rework collective bellcrank-K | 2 work-hours × $85 per hour = $170 | 0 | 170

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-02-20 Airbus Helicopters Deutschland GmbH (AHD): Amendment 39-21917; Docket No. FAA-2021-1007; Project Identifier MCAI-2021-00324-R.

(a) Effective Date

This airworthiness directive (AD) is effective March 17, 2022.

(b) Affected ADs

None.

(c) Applicability

This AD applies to all Airbus Helicopters Deutschland GmbH (AHD) Model MBB-BK 117 C-2 and MBB-BK 117 D-2 helicopters, certificated in any category.

(d) Subject

Joint Aircraft Service Component (JASC) Code: 6230, Main Rotor Mast/Swashplate.

(e) Unsafe Condition

This AD was prompted by a report that a collective bellcrank-K (affected part) was found incorrectly installed on a helicopter. Subsequent investigations found that the affected part was an in-service replacement, and that the position marking on that part was incorrect. The FAA is issuing this AD to address incorrect installation of a collective bellcrank-K, which could lead to unwanted collective input, resulting in reduced control of the helicopter.

(f) Compliance

Comply with this AD within the compliance times specified, unless already done.

(g) Requirements

Except as specified in paragraph (h) of this AD: Comply with all required actions and compliance times specified in, and in accordance with, European Union Aviation Safety Agency (EASA) AD 2021-0074, dated March 15, 2021 (EASA AD 2021-0074).

(h) Exceptions to EASA AD 2021-0074

(1) Where EASA AD 2021-0074 requires compliance in terms of flight hours, this AD requires using hours time-in-service.

(2) Where EASA AD 2021-0074 refers to its effective date, this AD requires using the effective date of this AD.

(3) Where the service information referenced in EASA AD 2021-0074 specifies discarding a part, this AD requires removing that part from service.

(4) Where the service information referenced in EASA AD 2021-0074 specifies contacting Airbus Helicopters for instructions to rework a bellcrank-K, the rework must be accomplished using a method approved by the Manager, General Aviation & Rotorcraft Section, International Validation Branch, FAA; or EASA; or Airbus Helicopters' EASA Design Organization Approval (DOA). If approved by the DOA, the approval must include the DOA-authorized signature.

(5) Where the service information referenced in EASA AD 2021-0074 specifies to “forecast the compliance time of Part IV and schedule the accomplishment accordingly,” for clarification, this AD requires doing the correction of the position marking of the bellcrank-K at the time specified in paragraph (3) of EASA AD 2021-0074.

(6) Where the service information referenced in EASA AD 2021-0074 specifies contacting Airbus Helicopters if there is mechanical damage or corrosion on the bushings of the bellcrank assembly, this AD does not require that action.

(7) This AD does not mandate compliance with the “Remarks” section of EASA AD 2021-0074.

(i) No Reporting Requirement

Although the service information referenced in EASA AD 2021-0074 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Hal Jensen, Aerospace Engineer, Operational Safety Branch, FAA, 950 L'Enfant Plaza SW, Washington, DC 20024; telephone (202) 267-9167; email hal.jensen@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0074, dated March 15, 2021.

(ii) [Reserved]

(3) For EASA AD 2021-0074, contact EASA, Konrad-Adenauer-Ufer 3, 50668 Cologne, Germany; telephone +49 221 8999 000; email ADs@easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-1007.

(5) You may view this material that is incorporated by reference at the National Archives and Records Administration (NARA). For information on the availability of this material at NARA, email fr.inspection@nara.gov, or go to: https://www.archives.gov/federal-register/cfr/ibr-locations.html.

Issued on January 18, 2022.
Lance T. Gant,
Director, Compliance & Airworthiness Division, Aircraft Certification Service.

[FR Doc. 2022-02757 Filed 2-9-22; 8:45 am]

BILLING CODE 4910-13-P